DEPARTMENT OF HEALTH AND HUMAN SERVICES

National Institutes of Health

National Institutes of Health Guidelines for Research Using Human Pluripotent Stem Cells

ACTION: Notice; withdrawal of NIH Guidelines for Research Using Pluripotent Stem Cells Derived from Human Embryos (published August 25, 2000, 65 FR 51976, corrected November 21, 2000, 65 FR 69951).

SUMMARY: The National Institutes of Health (NIH) announces the withdrawal of those sections of the NIH Guidelines for Research Using Human Pluripotent Stem Cells, http://www.nih.gov/news/stemcell/stemcellguidelines.htm. (NIH Guidelines), that pertain to research involving human pluripotent stem cells derived from human embryos that are the result of in vitro fertilization, are in excess of clinical need, and have not reached the stage at which the mesoderm is formed.

The President has determined the criteria that allow Federal funding for research using existing embryonic stem cell lines, http://www.whitehouse.gov/news/releases/2001/08/print/20010809-1.html. Thus, the NIH Guidelines as they relate to human pluripotent stem cells derived from human embryos are no longer needed.

FOR FURTHER INFORMATION CONTACT: NIH Office of Extramural Research, NIH, 1 Center Drive, MSC 0152, Building 1, Room 146, Bethesda, MD 20892, or e-mail DDER@nih.gov.

Dated: November 2, 2001.
Ruth L. Kirschstein,
Acting Director, National Institutes of Health.

[FR Doc. 01-28426 Filed 11-13-01; 8:45 am]

BILLING CODE 4140-01-P